DEPARTMENT OF TRANSPORTATION

Office of the Secretary

49 CFR Part 40

[Docket OST-99-6578]

RIN 2105-AC49

Procedures for Transportation Workplace Drug and Alcohol Testing Programs

AGENCY: Office of the Secretary, DOT.

ACTION: Notice of agenda for public meeting.

SUMMARY: The U.S. Department of Transportation (DOT) scheduled three public listening sessions on its notice of proposed rulemaking (NPRM) to revise the Department's drug and alcohol testing procedures, published in the Federal Register on December 9, 1999 (64 FR 69076). In the meeting notice, published in the Federal Register on January 18, 2000 (65 FR 2573), the Department included tentative agendas for the meetings to be held in Los Angeles, California, and Dallas, Texas. However, the Department did not include such an agenda for the meeting to be held in Washington DC. This notice provides the agenda for the Washington DC meeting, which will include a roundtable discussion on the proposed public interest exclusion (PIE) provisions of the NPRM.

DATES AND ADDRESSES: The public meetings will be held on March 20 and 21, 2000, at the Ronald Reagan Building and International Trade Center, 1300 Pennsylvania Avenue, NW., Washington, DC 20004; on March 28, 2000, at the Hilton Los Angeles Airport, 5711 West Century Boulevard, Los Angeles, CA 90045, telephone number (310) 410-4000, fax (310) 410-6177; and on March 30, 2000, at the Crowne Plaza, Dallas Market Center, 7050 Stemmons Freeway, Dallas, TX 75247, telephone number (214) 630-8500, fax (214) 630-0037.

FOR FURTHER INFORMATION CONTACT: For general meeting information and to register for one of the meetings, contact the DOT contractor, Marti Bludworth, Transportation Safety Institute (TSI), Special Programs Division, DTI-100, 4400 Will Rogers Parkway, Suite 205, Oklahoma City, OK 73108-2057, telephone number (800) 862-4832, extension 323, fax number (405) 946-4268, or e-mail marti_bludworth@tsi.jccbi.gov.

SUPPLEMENTARY INFORMATION:

A. Purpose

The purpose of the meetings is to provide all segments of the transportation industry and the general public with an opportunity to make statements, which have not already been made previously, to the docket. These meetings would also give DOT the opportunity to ask questions and ensure that the public comments are clearly understood by the Department. It may also give the Department the opportunity to clarify issues related to comments that had already been submitted to the docket during the early days of the formal comment period. Questions by commenters and other attendees to the DOT will be permitted as time allows. Registration and meeting procedures were specified in the January 18, 2000, notice.

B. Agenda for the Washington, DC, Meeting

The meeting in Washington, DC will be held for a day and a half to provide ample opportunity for attendees to make comments and for DOT to have additional time, if needed, to ask follow up questions. This geographic location will also provide added opportunity for additional DOT staff and industry representatives from the Capital area to attend the meeting.

The following is a tentative agenda that may be modified as needed to accommodate the needs of commenters and to ensure adequate coverage of the subject matter. We call your attention particularly to the “Roundtable Discussion” on the second day of the meeting concerning the service agent accountability provisions of the proposed rules, known as the public interest exclusion (PIE) proposal. This proposal has generated considerable interest among interested parties, and we believe that it could be useful to schedule an open, interactive discussion among attendees about it. This discussion will be in addition to the opportunity for speakers to address this proposal in their regular statements. As time permits, the Department intends to hold similar discussions as part of the Los Angeles and Dallas meetings as well.

Agenda—DOT Public Meeting, Ronald Reagan and International Trade Center, Atrium Ballroom A

March 20-21, 2000 Washington, DC

Monday, March 20, 2000

09:00-09:15 Introduction and Administrative Items

09:15-09:55 Overview of the Notice of Proposed Rulemaking

10:00-11:10 Collection Issues

11:15-11:30 Laboratory Issues

11:30-12:00 Q&A and Public Comments

01:00-01:50 Labor/Employer/Employee Issues

02:00-03:45 Medical Review Officer Issues

03:50-04:10 Substance Abuse Professional Issues

04:10-05:00 Questions and Answers and Additional Public Comments

Tuesday, March 21, 2000

09:00-10:10 Service Agents/Public Interest Exclusion

10:30-01:30 Public Interest Exclusion Round Table Discussion

Issued this 7th day of March 2000, at Washington, DC.
Mary Bernstein,
Director, Office of Drug and Alcohol Policy and Compliance, Department of Transportation.

[FR Doc. 00-6190 Filed 3-9-00; 12:09 pm]

BILLING CODE 4910-62-P